ENVIRONMENTAL PROTECTION AGENCY

40 CFR Part 300

[FRL-7547-8]

National Oil and Hazardous Substances Pollution Contingency Plan National Priorities List

AGENCY: Environmental Protection Agency (EPA).

ACTION: Notice of intent to delete the Resin Disposal Superfund Site from the National Priorities List.

SUMMARY: The Environmental Protection Agency (EPA) Region III is issuing a notice of intent to delete the Resin Disposal Superfund Site (Site) located in the Borough of Jefferson, Allegheny County, Pennsylvania, from the National Priorities List (NPL) and requests public comments on this notice of intent. The NPL, promulgated pursuant to section 105 of the Comprehensive Environmental Response, Compensation, and Liability Act (CERCLA) of 1980, as amended, is found at appendix B of 40 CFR part 300 of the National Oil and Hazardous Substances Pollution Contingency Plan (NCP). EPA and the Commonwealth of Pennsylvania, through the Pennsylvania Department of Environmental Protection (PADEP), have determined that all appropriate response actions under CERCLA, other than operation and maintenance and five-year reviews, have been completed. However, this deletion does not preclude future actions under Superfund.

In the “Rules and Regulations” Section of today's Federal Register, we are publishing a direct final notice of deletion of the Resin Disposal Superfund Site without prior notice of intent to delete, because we view this as a noncontroversial revision and anticipate no adverse comment. We have explained our reasons for this deletion in the preamble to the direct final deletion. If we receive no adverse comment(s) on the direct final notice of deletion, we will not take further action on this notice of intent to delete. If we receive adverse comment(s), we will withdraw the direct final notice of deletion and it will not take effect. We will, as appropriate, address all public comments in a subsequent final deletion notice based on this notice of intent to delete. We will not institute a second comment period on this notice of intent to delete. Any parties interested in commenting must do so at this time. For additional information, see the direct final notice of deletion which is located in the Rules Section of this Federal Register.

DATES: Comments concerning this Site must be received by September 22, 2003.

ADDRESSES: Written comments should be addressed to: Trish Taylor, Community Involvement Coordinator, (3HS43), U.S. EPA Region III, 1650 Arch Street, Philadelphia, PA 19103, (215) 814-5528, taylor.trish@epa.gov.

FOR FURTHER INFORMATION CONTACT: Rashmi Mathur, Remedial Project Manager (3HS22), U.S. EPA Region III, 1650 Arch Street, Philadelphia, PA 19103, (215) 814-5234, mathur.rashmi@epa.gov.

SUPPLEMENTARY INFORMATION: For additional information, see the Direct Final Notice of Deletion which is located in the Rules Section of this Federal Register.

Information Repositories: Comprehensive information about the Site is available for viewing and copying at the Site Information Repositories at the following locations: U.S. EPA Region III, Regional Center for Environmental Information (RCEI), 1650 Arch Street, Philadelphia, PA 19103, (215) 814-5364, Monday through Friday 8 a.m. to 4:30 p.m.; the Jefferson Borough Library (contact, Ann Reschenthaler), Municipal Building, 925 Old Clairton Road, Jefferson Borough, Pennsylvania 15025 (412) 655-7741, Monday through Thursday 11:00 a.m. to 8:30 p.m.; and the Pennsylvania Department of Environmental Protection, Pittsburgh Office, 400 Waterfront Drive, Pittsburgh, PA 15222 (412) 442-4197.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p.351; E.O. 12580, 52 FR 2923, 3 CFR, 1987 Comp., p. 193.

Dated: August 4, 2003.
Donald S. Welsh,
Regional Administrator, Region III.

[FR Doc. 03-21597 Filed 8-21-03; 8:45 am]

BILLING CODE 6560-50-P